DEPARTMENT OF COMMERCE

Foreign-Trade Zones Board

[B-4-2026]

Foreign-Trade Zone (FTZ) 18, Notification of Proposed Production Activity; Intel Foundry Corporation; (Semiconductor Products); Santa Clara, California

Intel Foundry Corporation (Intel) submitted a notification of proposed production activity to the FTZ Board (the Board) for its facilities in Santa Clara, California within FTZ 18. The notification conforming to the requirements of the Board's regulations (15 CFR 400.22) was received on January 14, 2026.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished product is photomasks (duty-free).

The proposed foreign-status materials/components include: calcium hydroxide; propane; chlorine; iodine; fluorine gas; hydrogen; argon; helium; xenon; nitrogen; hydrochloric acid; sulfuric acid; nitric acid; carbon dioxide; ammonia; ammonium hydroxide; sodium hydroxide; potassium hydroxide; zinc chloride; sodium bisulfite; lithium cobalt oxide; hydrogen peroxide; toluene; trifluoroethane; tetrafluoromethane; methanol; isopropyl alcohol; propanediol; acetone; methyl ethyl ketone; cyclohexanone; oxalic acid; citric acid; triethanolamine; tetraethylammonium perfluoro octane sulfonate; acetonitrile; tungsten hexacarbonyl; dimethyl sulfoxide based cleaning solvent; lubricant oil; quartz blanks; pellicles; biocide; xenon difluoride; ethyle lactate; epoxy; ruthenium; tantalum; chromium; gallium; cobalt sputtering target; copper sputtering target; tantalum sputtering target; and, titanium sputtering target; gallium compound; photoresist solution; and, tantalum (duty rate ranges from duty-free to 6.2%). The request indicates that certain materials/components are subject to duties under section 1702(a)(1)(B) of the International Emergency Economic Powers Act (section 1702), section 232 of the Trade Expansion Act of 1962 (section 232), or section 301 of the Trade Act of 1974 (section 301), depending on the country of origin. The applicable section 1702, section 232, and section 301 decisions require subject merchandise to be admitted to FTZs in privileged foreign status (19 CFR 146.41).

Public comment is invited from interested parties. Submissions shall be addressed to the Board's Executive Secretary and sent to: ftz@trade.gov. The closing period for their receipt is March 2, 2026.

A copy of the notification will be available for public inspection in the “Online FTZ Information System” section of the Board's website.

For further information, contact Christopher Wedderburn at Chris.Wedderburn@trade.gov.

Dated: January 15, 2026.
Elizabeth Whiteman,
Executive Secretary.

[FR Doc. 2026-01027 Filed 1-20-26; 8:45 am]

BILLING CODE 3510-DS-P